DEPARTMENT OF COMMERCE

Foreign-Trade Zones Board

[S-40-2024]

Foreign-Trade Zone 147; Application for Subzone; Stoltzfus Logistics International, LLC; Berks County, Pennsylvania

An application has been submitted to the Foreign-Trade Zones (FTZ) Board by the FTZ Corp. of Southern Pennsylvania, grantee of FTZ 147, requesting subzone status for the facility of Stoltzfus Logistics International, LLC (Stoltzfus), located in Atglen, Pennsylvania. The application was submitted pursuant to the provisions of the Foreign-Trade Zones Act, as amended (19 U.S.C. 81a-81u), and the regulations of the FTZ Board (15 CFR part 400). It was formally docketed on March 8, 2024.

The proposed subzone (6.44 acres) is located at 808 Valley Avenue, Atglen, Pennsylvania. No authorization for production activity has been requested at this time. The proposed subzone would be subject to the existing activation limit of FTZ 147.

In accordance with the FTZ Board's regulations, Juanita Chen of the FTZ Staff is designated examiner to review the application and make recommendations to the Executive Secretary.

Public comment is invited from interested parties. Submissions shall be addressed to the FTZ Board's Executive Secretary and sent to: ftz@trade.gov. The closing period for their receipt is April 29, 2024. Rebuttal comments in response to material submitted during the foregoing period may be submitted during the subsequent 15-day period to May 13, 2024.

A copy of the application will be available for public inspection in the “Online FTZ Information Section” section of the FTZ Board's website, which is accessible via www.trade.gov/ftz.

For further information, contact Juanita Chen at juanita.chen@trade.gov.

Dated: March 11, 2024.
Elizabeth Whiteman,
Executive Secretary.

[FR Doc. 2024-05658 Filed 3-15-24; 8:45 am]

BILLING CODE 3510-DS-P